DEPARTMENT OF TRANSPORTATION

Federal Highway Administration

[FHWA Docket No. FHWA-2000-7392]

Transportation Equity Act for the 21st Century: Implementation Guidance for the National Corridor Planning and Development Program and the Coordinated Border Infrastructure Program

AGENCY: Federal Highway Administration (FHWA), DOT.

ACTION: Notice; closing of public docket.

SUMMARY: The FHWA will not be soliciting full applications for fiscal year (FY) 2002 National Corridor Planning and Development Program and the Coordinated Border Infrastructure (NCPD/CBI) Program funds. Additionally, the FHWA does not plan to solicit applications for FY 2003 NCPD/CBI Program funds until Congress completes action on the FY 2003 U.S. DOT Appropriations Act. Finally, the FHWA does not plan to solicit statements of intent to apply for FY 2003 NCPD/CBI Program before or after action on the FY 2003 U.S. DOT Appropriations Act.

FOR FURTHER INFORMATION CONTACT: For program issues: Mr. Martin Weiss, Office of Intermodal and Statewide Programs, HEPS-10, (202) 366-5010; or for legal issues: Mr. Robert Black, Office of the Chief Counsel, HCC-30, (202) 366-1359; Federal Highway Administration, 400 Seventh Street, SW., Washington, DC 20590. Office hours are from 7:45 a.m. to 4:15 p.m., e.t., Monday through Friday, except Federal holidays.

SUPPLEMENTARY INFORMATION:

Electronic Access

An electronic copy of this document may be downloaded using a modem and suitable communications software from the Government Printing Office's Electronic Bulletin Board Service at (202) 512-1661. Internet users may reach the Office of the Federal Register's home page at: http://www.nara.gov/fedreg and the Government Printing Office's database at: http://www.access.gpo.gov/nara.

Background

The NCPD and the CBI programs are discretionary grant programs funded by a single funding source. These programs provide funding for planning, project development, construction and operation of projects that serve border regions near Mexico and Canada and high priority corridors throughout the United States. Under the NCPD program, States and metropolitan planning organizations (MPOs) are eligible for discretionary grants for: Corridor feasibility; corridor planning; multistate coordination; environmental review; and construction. Under the CBI program, border States and MPOs are eligible for discretionary grants for: transportation and safety infrastructure improvements, operation and regulatory improvements, and coordination and safety inspection improvements in a border region.

Sections 1118 and 1119 of the Transportation Equity Act for the 21st Century (TEA-21), (Public Law 105-178, 112 Stat. 107, at 161, June 9, 1998), established the NCPD and CBI programs, respectively. These programs respond to substantial interest dating from 1991. In that year, the Intermodal Surface Transportation Efficiency Act (ISTEA), (Public Law 102-240, 105 Stat. 1914, December 18, 1991), designated a number of high priority corridors. Subsequent legislation modified the corridor descriptions and designated additional corridors. Citizen and civic groups promoted many of these corridors as a means to accommodate international trade. Similarly, since 1991 a number of studies identified infrastructure and operational deficiencies near the U.S. borders with Mexico and Canada. Also various groups, some international and/or intergovernmental, studied opportunities to improve infrastructure and operations.

Funds for the NCPD and CBI are provided by a single funding source. The combined authorized funding for these two programs is $140 million in each year from FY 1999 to FY 2003 (a total of $700 million). Program funds are limited by the requirements of section 1102 (obligation ceiling) of the TEA-21.

In FY 1999, the FHWA received about 150 applications under the NCPB/CBI programs. Of those applications, the FHWA awarded fifty five. In FY 2000, the FHWA received about 150 applications. Of these applications, the FHWA awarded sixty five; however, approximately 50 percent of the program funds were awarded to projects designated by congressional appropriation committees in the reports accompanying the U.S. DOT Appropriations Act for FY 2000. In FY 2001, the FHWA received about 150 applications. Of these applications, the FHWA awarded fifty four, however about 65 percent of the funds were awarded to projects designated by congressional appropriation committees in the reports accompanying the U.S. DOT Appropriations Act for FY 2001. Of the awards in FY 1999, FY 2000 and FY 2001 most were for less than the requested funding.

On May 7, 2001, the FHWA placed a notice in the Federal Register at 66 FR 23073 that solicited statements of intent to apply, as opposed to full solicitations. This was done partly because the FHWA did not know how much funding would be available and by soliciting intent to apply rather than applications, it would reduce cost to grant seekers, grant reviewers and/or grant coordinators. This Federal Register notice also continued a docket (FHWA-2000-7392) for comments concerning the notice or the program in general. No comments were placed in that docket in the period ending April 15, 2000.

By August 2001, States and MPOs submitted about 200 statements of intent to apply for about $3 billion.

The President signed the FY 2002 U.S. DOT Appropriations Act in December 2001. Congress increased funding for the program by more than 200 percent by setting aside additional funds for the program under provisions of section 110 of title 23 U.S.Code, otherwise known as the Revenue Aligned Budget Authority (RABA). However, consistent with the trend of past years, all the FY 2002 funds will be awarded to projects designated by the congressional appropriations committee in the report accompanying the U.S. DOT Appropriations Act for FY 2002. (See H.R. Conf. Rep. No. 107-308 at 82; November 30, 2001). Notwithstanding the designation noted above, the FHWA maintains a public listing of the “statements of intent” on the internet at the URL: http://www.fhwa.dot.gov/hep10/corbor/2002/intenttoapply2002.html.

Therefore, the FHWA will not be soliciting full applications for FY 2002 NCPD/CBI program funds. Additionally, the FHWA does not plan to solicit applications for FY 2003 NCPD/CBI program funds until the Congress completes action on the FY 2003 U.S. DOT Appropriations Act. Finally, the FHWA does not plan to solicit statements of intent to apply for FY 2003 NCPD/CBI program funds either before or after congressional action on the FY 2003 U.S. DOT Appropriations Act.

States that wish to substantially modify their Statements of intent for their own reasons may, of course, do so, and similarly those who wish to send the modification to the FHWA Divisions in their State may do so.

Finally, because no comments were submitted to the docket and because of the designations noted above, the FHWA is closing the docket on this program.

Information concerning the NCPD/CBI program, including grant applications, grant selections, solicitations, maps, statutory language, etc. are available on the internet at the following URL: http://www.fhwa.dot.gov/hep10/corbor/index.html.

Authority: 23 U.S.C. 315; Public Law 105-178, 112 Stat. 107, 161 to 164, as amended; 49 CFR 1.48.

Issued on:April 22, 2002.
Mary E. Peters,
Administrator, Federal Highway Administration.

[FR Doc. 02-10765 Filed 4-30-02; 8:45 am]

BILLING CODE 4910-22-P